DEPARTMENT OF COMMERCE

International Trade Administration

[A-588-046]

Polychloroprene Rubber from Japan: Notice of Rescission of Antidumping Duty Administrative Review

AGENCY: Import Administration, International Trade Administration, Department of Commerce.

ACTION: Notice of rescission of antidumping duty administrative review.

SUMMARY: On January 26, 2000, the Department of Commerce (“the Department”) published in the Federal Register the notice of initiation of an administrative review of the antidumping duty order on polychloroprene rubber from Japan for Denki Kagaku Kogyo K.K. (“Denka”) and Tosoh Corporation (“Tosoh”). See 65 FR 4228. This review was requested by the petitioner, DuPont Dow Elastomers L.L.C. (“DuPont”), and covers the period December 1, 1998, through November 30, 1999. We are now rescinding this review as a result of DuPont's timely withdrawal of its request for an administrative review for Denka and the non-shipper status of Tosoh.

EFFECTIVE DATE: August 31, 2000.

FOR FURTHER INFORMATION CONTACT: Nova Daly or Ron Trentham, Group II, Office 4, Office of AD/CVD Enforcement, Import Administration, International Trade Administration, U.S. Department of Commerce, 14th Street and Constitution Avenue, NW., Washington, DC 20230; telephone (202) 482-0989 or 482-6320, respectively.

SUPPLEMENTARY INFORMATION:

Applicable Statute and Regulations

Unless otherwise indicated, all citations to the statute are references to the provisions effective January 1, 1995, the effective date of the amendments to the Tariff Act of 1930 (“the Act”) by the Uruguay Round Agreements Act. In addition, unless otherwise indicated, all citations to the Department's regulations are to the regulations as codified at 19 CFR Part 351 (1999).

Background

On December 28, 1999, the petitioner, DuPont, requested that the Department conduct an administrative review of the antidumping duty order on polychloroprene rubber from Japan for the period December 1, 1998, through November 30, 1999, covering two producers and/or exporters: Denka and Tosoh. No other interested party requested that the Department conduct an administrative review. On January 26, 2000, the Department initiated an administrative review (65 FR 4228).

Scope of the Review

Imports covered by this review are shipments of polychloroprene rubber, an oil resistant synthetic rubber also known as polymerized chlorobutadiene or neoprene, currently classifiable under items 4002.42.00, 4002.49.00, 4003.00.00, 4462.15.21 and 4462.00.00 of the Harmonized Tariff Schedule of the United States (“HTSUS”). HTSUS item numbers are provided for convenience and for the U.S. Customs Service purposes. The written descriptions remain dispositive.

Rescission of 1998/1999 Antidumping Duty Administrative Review

On February 10, 2000, in response to the Department's questionnaire, Tosoh stated that it had made no shipments to the United States of the subject merchandise during the period of review (“POR”). The Department independently confirmed with the U.S. Customs Service that there were no shipments from Tosoh during the POR. Therefore, in accordance with section 351.213(d)(3) of the Department's regulations, and consistent with our practice, we are treating this firm as a non-shipper for purposes of this review. Moreover, the Department invited interested parties to comment on our intent to rescind this review with respect to Tosoh. See Rescission Memorandum from Ron Trentham to Holly A. Kuga, dated August 4, 2000 (“Recission Memo”). Interested parties were given until the close of business on August 18, 2000, to submit their comments. No parties submitted comments. Therefore, we are rescinding this review with respect to Tosoh (see, e.g. Certain Welded Carbon Steel Pipe and Tube from Turkey: Final Results and Partial Recission of Antidumping Administrative Review, 63 FR 35190, 35191 (June 29, 1998)).

On February 23, 2000, the petitioner filed a letter with the Department withdrawing its request that the Department conduct an administrative review of Denka's sales. This withdrawal complies with section 351.213(d)(1) of the Department's regulations which grants parties 90 days from the publication of the notice of initiation of review to withdraw their request for review. Because of the non-shipper status of Tosoh, DuPont's timely request for the termination of the review for Denka, and the fact that there were no responses to the Rescission Memo, the Department is rescinding this review in its entirety in accordance with section 351.213(d) of our regulations.

This notice is in accordance with section 751 of the Act and section 351.213(d) of the Department's regulations.

Dated: August 24, 2000.
Holly A. Kuga,
Acting Deputy Assistant Secretary for Import Administration.

[FR Doc. 00-22355 Filed 8-30-00; 8:45 am]

BILLING CODE 3510-DS-P